DEPARTMENT OF COMMERCE

National Oceanic and Atmospheric Administration

[RTID 0648-XE730]

Fisheries of the Exclusive Economic Zone Off Alaska; Application for an Exempted Fishing Permit

AGENCY: National Marine Fisheries Service (NMFS), National Oceanic and Atmospheric Administration (NOAA), Commerce.

ACTION: Notice; receipt of application for exempted fishing permit.

SUMMARY: This notice announces NMFS' receipt of an application and the public comment period for an exempted fishing permit (EFP) from North Pacific Fisheries Research Foundation. If issued, this permit would allow the applicant to develop and test salmon excluders to optimize salmon escapement under summer pollock fishing conditions in the Bering Sea pollock fishery. In order to facilitate testing of salmon excluders, this EFP would exempt participating vessels from complying with certain regulations, described below under Exemptions. Field testing would be conducted in July and August during the fishery's “B' season. Effective dates of the EFP would be from June 30, 2025 to September 1, 2025. This experiment would test salmon excluder designs that aim to optimize salmon escapement and thus promote the objectives of the Magnuson-Stevens Fishery Conservation and Management Act (Magnuson-Stevens Act).

DATES: Comments on this EFP application must be submitted to NMFS on or before April 11, 2025. The North Pacific Fishery Management Council (Council) will consider the application at its meeting from March 31, 2025 through April 7, 2025.

ADDRESSES: The Council meeting will be held virtually. The agenda for the Council meeting is available at http://www.npfmc.org. In addition to submitting public comments during the Council meeting through the Council website, you may submit your comments, identified by NOAA-NMFS-2025-0024, by either of the following methods:

• Electronic Submission: Submit all electronic public comments via the Federal e-Rulemaking Portal. Visit https://www.regulations.gov and type [NOAA-NMFS-2025-0024] in the Search box. Click on the “Comment” icon, complete the required fields, and enter or attach your comments.

• Mail: Submit written comments to Gretchen Harrington, Assistant Regional Administrator, Sustainable Fisheries Division, Alaska Region NMFS, Attn: Records Office. Mail comments to P.O. Box 21668, Juneau, AK 99802-1668.

• Fax: [(907) 586-7465]; Attn: [Gretchen Harrington].

Instructions: Comments sent by any other method, to any other address or individual, or received after the end of the comment period, may not be considered by NMFS. All comments received are a part of the public record and will generally be posted for public viewing on https://www.regulations.gov without change. All personal identifying information (e.g., name, address), confidential business information, or otherwise sensitive information submitted voluntarily by the sender will be publicly accessible. NMFS will accept anonymous comments (enter “N/A” in the required fields if you wish to remain anonymous).

Electronic copies of the EFP application and the basis for a categorical exclusion under the National Environmental Policy Act are available from https://www.regulations.gov or from the NMFS Alaska Region website at https://www.fisheries.noaa.gov/region/alaska.

FOR FURTHER INFORMATION CONTACT: Maggie Chan, (907) 586-7228 or Maggie.chan@noaa.gov.

SUPPLEMENTARY INFORMATION: NMFS manages the groundfish fisheries in the exclusive economic zone of the Bering Sea and Aleutian Islands (BSAI) under the Fishery Management Plan (FMP) for Groundfish of the BSAI Management Area (BSAI FMP). The Council prepared the BSAI FMP under the authority of the Magnuson-Stevens Act, 16 U.S.C. 1801 et seq. Regulations governing the BSAI groundfish fisheries appear at 50 CFR parts 600 and 679. The FMP and the EFP-implementing regulations at § 600.745(b) and § 679.6 allow the NMFS Regional Administrator to authorize, for limited experimental purposes, fishing that would otherwise be prohibited. Procedures for issuing EFPs are contained in the implementing regulations.

Background and Need for Exempted Fishing Permit

In the Bering Sea pollock fishery, the majority of pollock trawl vessels use salmon excluder devices on a regular basis as part of the overall effort by the fishery to reduce salmon bycatch under the Chinook Prohibited Species Catch (PSC) limits and bycatch avoidance incentive program. However, the salmon excluders currently used in the fishery were developed in winter conditions with a focus on minimizing Chinook salmon bycatch. The predominant salmon species caught as bycatch in the Bering Sea pollock fishery are Chinook salmon in winter months and chum salmon in summer months. This EFP is focused on developing salmon excluders specific to summer pollock fishing conditions where chum salmon is the primary salmon species encountered as bycatch in the pollock fishery.

Conditions differ between summer and winter pollock fishing, including the species composition of bycatch, amount of daylight, pollock schooling behavior, duration of tows, etc. These seasonal fishery differences could be important when developing a salmon excluder specifically designed to work in summer pollock fishing conditions and focusing on reducing chum salmon bycatch. An EFP is needed to facilitate development and testing of salmon excluders specifically designed for summer pollock fishing conditions. Exemptions from certain regulations, as described below, are needed for the proposed EFP to meet the needs of the experimental design focused on minimizing chum salmon bycatch in summer months.

Exempted Fishing Permit

On March 11, 2025, Mr. John Gauvin, under contract with North Pacific Fisheries Research Foundation, submitted an application for an EFP to develop and test salmon excluders in the Bering Sea pollock fishery during summer fishing conditions, when chum salmon are the primary salmon species encountered as bycatch. The purpose and goal of this proposed EFP is to assess the performance of salmon excluder designs, including effects on pollock catch rates and salmon bycatch.

The proposed EFP aims to test salmon excluder devices on two catcher vessels and one catcher/processor, in different horsepower classes in the Bering Sea pollock fishery. All vessels will use pelagic trawls for pollock fishing in Alaska. Gear and fishing operations will be conducted in compliance with current management regulations with the exception of the modifications exempted under the EFP.

Following the practice that the Council and NMFS have approved for past EFP experiments dedicated to salmon bycatch reduction (65 FR 55223, September 13, 2000), the EFP applicant requests that groundfish and salmon catches not count against each EFP vessel's apportionment of the groundfish Total Allowable Catches (TACs) or Chinook salmon PSC limits.

Approximately 97 to 99 percent of the groundfish harvested is expected to be pollock. The EFP applicant expects a total of 3,000 metric tons (mt) of groundfish (primarily pollock) would be taken over the duration of the EFP. The harvest specifications published in 2024 (89 FR 17287, March 11, 2024) identify that for 2025, the Bering Sea pollock acceptable biological catch (ABC) level is 2,401,000 mt, and the Bering Sea pollock TAC is 1,325,000 mt. Up to 3,000 mt of pollock would be allowed to be harvested under the proposed EFP without accruing against the Bering Sea pollock TAC. The 3,000 mt of pollock equates to 0.12 percent of the 2025 Bering Sea pollock ABC, 0.23 percent of the Bering Sea pollock TAC, and 0.28 percent of the difference between the ABC and the TAC.

Very little groundfish incidental catch occurs in the pollock fishery. The majority of these other species harvested under the EFP likely would be Pacific cod, skates, flatfish, halibut, and jellyfish. The amount of groundfish harvest under the EFP and by the commercial groundfish fisheries is not expected to cause the ABCs for any groundfish species to be exceeded because other groundfish TACs are set with a sufficient difference between ABC and TAC to accommodate EFP fishing catch of groundfish species other than pollock.

The incidental take of salmon during the experiment is crucial for determining the effectiveness of the excluder device. Chinook salmon is under PSC limits (see § 679.21(f)), and any taken during the experiment would be counted but would not accrue toward the Chinook salmon PSC limits. However, the EFP applicants expect minimal amounts of Chinook as bycatch because encounters with Chinook salmon is extremely rare in summer when fishing under the EFP will occur.

Due to interannual variability of bycatch rates and differences in locations between the pollock fishery and EFP fishing locations, it is challenging to predict how many additional chum salmon might be caught as a result of this EFP. The applicant estimates that chum bycatch during this EFP would be in the range of 150-1,500 fish.

Exemptions

To meet the proposed EFP's objective, exemptions would be necessary from regulations for salmon bycatch management, closure areas, and TACs for groundfish, and PSC limits for the pollock fishery. This will include exemptions to regulations such as, but not limited to:

• 50 CFR 679.22(a)(5): prohibits Catcher/Processor from directed fishing in Catcher Vessel Operational Area (CVOA) for pollock during the B season unless it is directed fishing for Pollock CDQ,

• § 679.21(a)(2)(i): requirement to minimize catch of prohibited species,

• § 679.2 “Authorized fishing gear”, paragraph (14): definition of pelagic trawl, and

• Other regulations as identified through Council consultation, public comments, or partner agencies.

All EFP vessels will comply with observer requirements at § 679.50. Participating EFP catchers vessels in the trawl EM category will comply with regulations at § 679.51(g) and will work with NMFS on sampling procedures that allow for EFP data collection.

Permit Conditions, Review, and Effects

If issued, the exempted fishing permit would contain several conditions. Within 6 months of the end of EFP fishing, the applicant would be required to submit to NMFS a final report that describes how well EFP objectives were accomplished, including a summary of the vessels participating, any problems and successes, and the total catch of each groundfish species in metric tons and the total number of each salmon species caught during EFP fishing. The Alaska Fisheries Science Center (AFSC) reviewed a draft EFP application that was submitted on September 1, 2024 and supports this application with several modifications. All AFSC-recommended modifications have been addressed by the applicants in their final EFP application. In addition to modifications, the AFSC offered additional feedback and items to consider, and this feedback has been incorporated in the final EFP application submitted to NMFS.

The activities that would be conducted under this EFP involve the development and testing of salmon excluders in order to minimize salmon bycatch, particularly chum salmon, and is limited in size, magnitude, and duration with no potential for significant individual or cumulative impacts, as detailed in the draft categorical exclusion for this action (see ADDRESSES).

In accordance with §§ 679.6 and 600.745, NMFS has determined that the application warrants further consideration and has forwarded the application to the Council to initiate consultation. The Council is scheduled to consider the EFP application during its April 2025 meeting, which will be held virtually. The applicant has been invited to speak in support of the application.

Public Comments

Interested persons may comment on the application during the April 2025 Council meeting during public testimony or the Federal eRulemaking Portal (see ADDRESSES) until [insert date 15 days after date of publication in the Federal Register], when the comment period ends. Information regarding the meeting is available at the Council's website at http://www.npfmc.org. Copies of the application and categorical exclusion are available for review from NMFS (see ADDRESSES). Comments may also be submitted directly to NMFS (see ADDRESSES) by the end of the comment period (see DATES).

Authority: 16 U.S.C. 1801 et seq.

Dated: March 24, 2025.
Karen H. Abrams,
Acting Director, Office of Sustainable Fisheries, National Marine Fisheries Service.

[FR Doc. 2025-05261 Filed 3-26-25; 8:45 am]

BILLING CODE 3510-22-P